DEPARTMENT OF TRANSPORTATION

Office of the Secretary

49 CFR Part 37

[OST Docket 98-3648]

Transportation for Individuals With Disabilities—Accessibility of Over-the-Road Buses (OTRBs)

AGENCY: Office of the Secretary, DOT.

ACTION: Interim final rule; correction.

SUMMARY: This rule makes an editorial correction to the preamble of the recently published interim final rule amending the Department of Transportation's regulations concerning accessibility of over-the-road buses (OTRBs). The interim final rule was published in the Federal Register on Tuesday, February 6, 2001 (66 FR 9048) and becomes effective on March 8, 2001. Written comments on the interim final rule must be submitted on or before March 8, 2001. The interim final rule may be changed in light of the comments received.

EFFECTIVE DATE: February 21, 2001.

FOR FURTHER INFORMATION CONTACT: Blane A. Workie, Office of the General Counsel, C-50, (202) 366-4723, Department of Transportation, 400 Seventh Street, SW., Washington, DC 20590.

SUPPLEMENTARY INFORMATION: The interim final rule amending 49 CFR part 37, erroneously asks whether the Department should “propose requiring acquisition of accessible buses in some situations where on-call service is not permitted”? Instead, the question should have been whether the Department should “propose requiring acquisition of accessible buses in some situations where on-call service is now permitted”? This correction notice is to rectify this typographical mistake.

Issued in Washington, DC, this 9th day of February, 2001 under authority delegated to me by 49 CFR 1.57(l).
Rosalind A. Knapp,
Acting General Counsel.

[FR Doc. 01-4223 Filed 2-20-01; 8:45 am]

BILLING CODE 4910-62-M